DEPARTMENT OF JUSTICE

Bureau of Alcohol, Tobacco, Firearms and Explosives

[OMB Number 1140-NEW]

Agency Information Collection Activities; Proposed eCollection eComments Requested; Forensic Firearm Training Request for Non-ATF Employees—ATF Form 7110.15

AGENCY: Bureau of Alcohol, Tobacco, Firearms and Explosives, Department of Justice.

ACTION: 30-Day notice.

SUMMARY: The Department of Justice (DOJ), Bureau of Alcohol, Tobacco, Firearms and Explosives (ATF), will submit the following information collection request to the Office of Management and Budget (OMB) for review and approval in accordance with the Paperwork Reduction Act of 1995.

DATES: The proposed information collection was previously published in the Federal Register, on September 21, 2018, allowing for a 60-day comment period. Comments are encouraged and will be accepted for an additional 30 days until December 31, 2018.

FOR FURTHER INFORMATION CONTACT: If you have additional comments, particularly with respect to the estimated public burden or associated response time, have suggestions, need a copy of the proposed information collection instrument with instructions, or desire any other additional information, please contact: Sheila Hopkins, National Laboratory Center either by mail at 6000 Ammendale Road, Ammendale, MD 20705, by email at Sheila.hopkins@atf.gov, or by telephone at 202-648-6061. Written comments and/or suggestions can also be directed to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of this information collection:

(1) Type of Information Collection: New Collection.

(2) The Title of the Form/Collection: Forensic Firearm Training Request for Non-ATF Employees.

(3) The agency form number, if any, and the applicable component of the Department sponsoring the collection:

Form number: ATF Form 7110.15.

Component: Bureau of Alcohol, Tobacco, Firearms and Explosives, U.S. Department of Justice.

(4) Affected public who will be asked or required to respond, as well as a brief abstract:

Primary: Federal Government.

Other: State, Local, or Tribal Government.

Abstract: The Forensic Firearm Training Request for Non-ATF Employees (ATF F 7110.15) will be used to obtain information from Federal, State and local, and international law enforcement personnel to register, obtain course information, and/or evaluate ATF forensic firearms investigative techniques training. The information collected on the form will assist ATF to determine the applicant's eligibility to attend this training.

(5) An estimate of the total number of respondents and the amount of time estimated for an average respondent to respond: An estimated 75 respondents will utilize the form associated with this information collection (IC), and it will take each respondent approximately 6 minutes to complete the form.

(6) An estimate of the total public burden (in hours) associated with the collection: The estimated annual public burden associated with this collection is 7.5 hours, which is equal to 75 (# of respondents) * 1 (# of responses per respondents) * .1 (6 minutes).

If additional information is required contact: Melody Braswell, Department Clearance Officer, United States Department of Justice, Justice Management Division, Policy and Planning Staff, Two Constitution Square, 145 N Street NE, 3E.405A, Washington, DC 20530.

Dated: November 26, 2018.
Melody Braswell,
Department Clearance Officer for PRA, U.S. Department of Justice.

[FR Doc. 2018-25988 Filed 11-29-18; 8:45 am]

BILLING CODE 4410-14-P